SOCIAL SECURITY ADMINISTRATION

20 CFR Parts 403 and 429

[Docket No. SSA-2009-0015]

RIN 0960-AG99

Testimony by Employees and the Production of Records and Information in Legal Proceedings, Claims Against the Government Under the Federal Tort Claims Act, and Claims Under the Military Personnel and Civilian Employees' Claim Act of 1964; Change of Address for Requests

AGENCY: Social Security Administration.

ACTION: Final rule.

SUMMARY: This final rule updates the address of the post office boxes used to file applications for testimony of a Social Security Administration (SSA) employee and claims made pursuant to either the Federal Tort Claims Act or the Military Personnel and Civilian Employees' Claims Act of 1964.

DATES: This final rule is effective April 10, 2009.

FOR FURTHER INFORMATION CONTACT: Suzanne DiMarino, Office of Regulations, Social Security Administration, 6401 Security Boulevard, Baltimore, Maryland 21235-6401. Call (410) 965-1769 for further information about these rules. For information on eligibility or filing for benefits, call our national toll-free number, 1-800-772-1213 or TTY 1-800-325-0778, or visit our Internet Web site, Social Security Online, at http://www.socialsecurity.gov.

SUPPLEMENTARY INFORMATION:

Electronic Version

The electronic file of this document is available on the date of publication in the Federal Register at http://www.gpoaccess.gov/fr/index.html.

Why are we revising these rules?

Our regulations currently provide that if you would like an SSA employee to testify in a legal proceeding to which we are not a party, you must mail an application to a specific post office box address. 20 CFR 403.102(c). We established a separate post office box address for filing claims against the government under either the Federal Tort Claims Act or the Military Personnel and Civilian Employees' Claims Act of 1964. 20 CFR 429.102 and 202. We are updating our regulations to reflect changes in the address for these post office boxes. We are not making any substantive changes to the regulations.

Regulatory Procedures

Justification for Final Rule

We follow the Administrative Procedure Act (APA) rulemaking procedures specified in 5 U.S.C. 553 in the development of our regulations. The Social Security Act, 702(a)(5); 42 U.S.C. 902(a)(5). The APA provides exceptions to its prior notice and public comment procedures when an agency finds there is good cause for dispensing with such procedures on the basis that they are impracticable, unnecessary, or contrary to the public interest.

In the case of this final rule, we have determined that good cause exists for dispensing with the notice and public comment procedures because such procedures are unnecessary. 5 U.S.C. 553(b)(B).

Executive Order 12866

We have consulted with the Office of Management and Budget (OMB) and determined that this final rule does not meet the criteria for a significant regulatory action under Executive Order 12866. Thus, it was not subject to OMB review.

Regulatory Flexibility Act

We certify that this final rule will not have a significant economic impact on a substantial number of small entities because they affect only individuals. Thus, a regulatory flexibility analysis as provided in the Regulatory Flexibility Act, as amended, is not required.

Paperwork Reduction Act

These proposed rules do not pose any public reporting requirements and are, therefore, not subject to the requirements of the Paperwork Reduction Act.

(Catalog of Federal Domestic Program Nos. 96.001, Social Security—Disability Insurance; 96.002, Social Security—Retirement Insurance; 96.004, Social Security—Survivors Insurance; 96.005, Special Benefits for Disabled Coal Miners; 96.006, Supplemental Security Income; and 96.020, Special Benefits for Certain World War II Veterans)

List of Subjects

20 CFR Part 403

Courts, Government employees.

20 CFR Part 429

Administrative practice and procedure, Claims, Government employees, and penalties.

Dated: April 2, 2009.
Michael J. Astrue,
Commissioner of Social Security.

For the reasons set out in the preamble, parts 403 and 429 of chapter III of title 20 of the Code of Federal Regulations are amended as follows:

PART 403—TESTIMONY BY EMPLOYEES AND THE PRODUCTION OF RECORDS AND INFORMATION IN LEGAL PROCEEDINGS

1. The authority citation for part 403 continues to read as follows:

Authority: Secs. 702(a)(5) and 1106 of the Act, (42 U.S.C. 902(a)(5) and 1306); 5 U.S.C. 301; 31 U.S.C. 9701.

2. In § 403.120, revise paragraph (c) to read as follows:

§ 403.120 How do you request testimony?

* * * * *

(c) You must send your application for testimony to: Social Security Administration, Office of the General Counsel, Office of General Law, P.O. Box 17788, Baltimore, Maryland, 21235-7788, Attn: Touhy Officer. (If you are requesting testimony of an employee of the Office of the Inspector General, send your application to the address in § 403.125.)

* * * * *

PART 429—ADMINISTRATIVE CLAIMS UNDER THE FEDERAL TORT CLAIMS ACT AND RELATED STATUTES

3. The authority citation for part 429 continues to read as follows:

Authority: Secs. 702(a)(5) of the Social Security Act (42 U.S.C. 902(a)(5)); 28 U.S.C. 2672; 28 CFR 14.11; 31 U.S.C. 3721.

Subpart A—[Amended]

4. In § 429.102, revise paragraph (c) to read as follows:

§ 429.102 How do I file a claim under this subpart?

* * * * *

(c) Where to obtain claims forms and file claims. You can obtain claims forms by writing to the Social Security Administration, Office of the General Counsel, Office of General Law, P.O. Box 17788, Baltimore, Maryland 21235-7788. You may also file your claim with the Social Security Administration at this same address.

Subpart B—[Amended]

5. In § 429.202, revise paragraph (b) to read as follows:

§ 429.202 How do I file a claim under this subpart?

* * * * *

(b) Where to file. You must file your claim with the Social Security Administration, Office of the General Counsel, Office of General Law, P.O. Box 17788, Baltimore, Maryland 21235-7788.

* * * * *

[FR Doc. E9-8213 Filed 4-9-09; 8:45 am]

BILLING CODE 4191-02-P